DEPARTMENT OF HOMELAND SECURITY

Coast Guard

33 CFR Part 165

[Docket No. USCG-2023-0492]

Safety Zone; Lower Mississippi River, Mile Markers 94 to 97 Above Head of Passes, New Orleans, LA—Essence Festival Fireworks Display

AGENCY: Coast Guard, DHS.

ACTION: Notification of enforcement of regulation.

SUMMARY: The Coast Guard will enforce a safety zone for the Essence Festival fireworks display located on the navigable waters of the Lower Mississippi River between mile marker (MM) 94.5 and MM 95.5. Our regulation for Safety Zones; Lower Mississippi River, mile markers 94 to 97 above Head of Passes, New Orleans, LA, in 33 CFR 165.845, identifies the regulated area for this event. This action is necessary to provide for the safety of life on these navigable waterways during this event. During the enforcement periods, as reflected in § 165.845(c), entry into this safety zone is prohibited unless authorized by the Captain of the Port or a designated representative.

DATES: The regulations in 33 CFR 165.845 will be enforced from 9:30 p.m. until 10:30 p.m. on July 1, 2023.

FOR FURTHER INFORMATION CONTACT: If you have questions about this notification of enforcement, call or email Lieutenant Commander William Stewart, Sector New Orleans, U.S. Coast Guard; telephone 504-365-2246, email William.A.Stewart@uscg.mil.

SUPPLEMENTARY INFORMATION: The Coast Guard will enforce a safety zone in 33 CFR 165.845 for the Essence Festival fireworks display event. This safety zone will be enforced from 9:30 p.m. through 10:30 p.m. on July 1, 2023. This action is being taken to provide for the safety of life on these navigable waterways during this event. Our regulation for Safety Zones; Lower Mississippi River, mile markers 94 to 97 above Head of Passes, New Orleans, LA, in 33 CFR 165.845(a), specifies the location of the regulated area on the Lower Mississippi River, between MM 94.5 and MM 95.5. During the enforcement period, as reflected in § 165.845(c), entry into this safety zone is prohibited unless authorized by the Captain of the Port or a designated representative.

In addition to this notification of enforcement in the Federal Register, the Coast Guard plans to provide notification of this enforcement period via Marine Safety Information Bulletin and Broadcast Notice to Mariners.

Dated: June 12, 2023.
K.K. Denning,
Captain, U.S. Coast Guard, Captain of the Port Sector New Orleans.

[FR Doc. 2023-12860 Filed 6-15-23; 8:45 am]

BILLING CODE 9110-04-P